DEPARTMENT OF THE INTERIOR

National Park Service

Notice of Inventory Completion: Nevada State Museum, Reno, NV, and U.S. Department of Interior, Bureau of Land Management, Nevada State Office, Reno, NV

AGENCY: National Park Service, Interior.

ACTION: Notice.

Notice is here given in accordance with the Native American Graves Protection and Repatriation Act (NAGPRA), 25 U.S.C. 3003, Sec. 5, of the completion of an inventory of human remains and associated funerary objects in the possession of the Nevada State Museum, Reno, NV, and in the control of the U.S. Department of Interior, Bureau of Land Management, Nevada State Office, Reno, NV. These human remains and associated funerary objects were removed from the vicinity of Winnemucca Lake, Washoe County, NV.

This notice is published as part of the National Park Service’s administrative responsibilities under NAGPRA, 25 U.S.C. 3003, Sec. 5 (d)(3). The determinations within this notice are the sole responsibility of the museum, institution, or Federal agency that has control of these Native American human remains and associated funerary objects. The National Park Service is not responsible for the determinations within this notice.

A detailed assessment of the human remains was made by Bureau of Land Management, Nevada State Office professional staff and Nevada State Museum professional staff in consultation with representatives of the Pyramid Lake Paiute Tribe of the Pyramid Lake Reservation, Nevada.

In 1952, human remains representing a minimum of two individuals were removed by the Nevada State Museum during legally authorized excavations at Chimney Cave (site 26Pe3b) near Winnemucca Lake, Washoe County, NV. One of the individuals may have been cremated. No known individuals were identified. No funerary objects are present.

In 1953, human remains representing a minimum of two individuals were removed by the Nevada State Museum during legally authorized excavations at Horse Cave (site 26Pe2) near Winnemucca Lake, Washoe County, NV. One of the individuals may have been cremated. No known individuals were identified. No funerary objects are present.

Between 1952 and 1954, human remains representing a minimum of seven individuals were removed by the Nevada State Museum during legally authorized excavations at Crypt Cave (site 26Pe3a) near Winnemucca Lake, Washoe County, NV. Some of the individuals may have been cremated. No known individuals were identified. The 13 associated funerary objects, found with one individual, are 1 bunch of moss, 2 grass bundles, 8 animal bones, 1 obsidian flake, and 1 piece of worked wood.

In 1960 and 1961, human remains representing a minimum of 14 individuals were removed by the Nevada State Museum during legally authorized excavations at Kramer Cave (site 26Wa196) near Winnemucca Lake, Washoe County, NV. Some of the individuals may have been cremated. No known individuals were identified. No funerary objects are present.

In 1983, human remains representing a minimum of one individual were removed by an unnamed person from the eastern shore of Lake Winnemucca, Washoe County, NV, and were donated anonymously to the Nevada State Museum. No known individuals were identified. No funerary objects are present.

In 1987, human remains representing a minimum of two individuals were removed by Nevada State Museum staff from the backdirt of a looted cave site, Loran’s Shelter (26Pe3nl), near Winnemucca Lake, Washoe County, NV. No known individuals were identified. No funerary objects are present.

Some time prior to 1997, human remains representing a minimum of three individuals were removed from an unidentified site, possibly Rollins or Cowbone Cave (site 26Pe3c), near Winnemucca Lake, Washoe County, NV, and were donated anonymously to the Nevada State Museum. No known individuals were identified. No funerary objects are present.

Between 1950 and 1960, human remains representing a minimum of four individuals were donated anonymously to the Nevada State Museum. Museum records suggest that these human remains had been removed from a sand pit on the eastern shore of Lake Winnemucca, Washoe County, NV, but do not indicate when these human remains were removed. No known individuals were identified. No funerary objects are present.

Based on geographic location, stratigraphy, and oral traditions presented by representatives of the Pyramid Lake Paiute Tribe of the Pyramid Lake Reservation, Nevada, the human remains and associated funerary objects are considered to be Native American and culturally affiliated with the Pyramid Lake Paiute Tribe of the Pyramid Lake Reservation, Nevada.

Officials of the Bureau of Land Management, Nevada State Office have determined that, pursuant to 25 U.S.C. 3001, Sec. 2 (9-10), the human remains listed above represent the physical remains of a minimum of 35 individuals of Native American ancestry. Officials of the Bureau of Land Management, Nevada State Office also have determined that, pursuant to 25 U.S.C. 3001, Sec. 2 (3)(A), the 13 objects listed above are reasonably believed to have been placed with or near individual human remains at the time of death or later as part of the death rite or ceremony. Lastly, officials of the Bureau of Land Management, Nevada State Office have determined that, pursuant to 25 U.S.C. 3001, Sec. 2 (2), there is a relationship of shared group identity that can be reasonably traced between these Native American human remains and associated funerary objects and the Pyramid Lake Paiute Tribe of the Pyramid Lake Reservation, Nevada.

Representatives of any other Indian tribe, that believes itself to be culturally affiliated with these human remains and associated funerary objects should contact Pat Barker, Bureau of Land Management, Nevada State Office, P.O. Box 12000 Reno, NV 89520, telephone (775) 861-6482, before April 14, 2003. Repatriation of the human remains and associated funerary objects to the Pyramid Lake Paiute Tribe of the Pyramid Lake Reservation, Nevada may proceed after that date if no additional claimants come forward.

The Bureau of Land Management, Nevada State Office is responsible for notifying the Pyramid Lake Paiute Tribe of the Pyramid Lake Reservation, Nevada that this notice has been published.

Dated: February 19, 2003.
John Robbins,
Assistant Director, Cultural Resources Stewardship and Partnerships.

[FR Doc. 03-6212 Filed 3-13-03; 8:45 am]

BILLING CODE 4310-70-S